DEPARTMENT OF ENERGY

Federal Energy Regulatory Commission

Notice of Technical Conference

| Docket Nos.
Filing Requirements for El. Utility S.A. | RM01-8-000
Electricity Market Transparency Provisions of Section 220 of the Federal Power Act | RM10-12-000
Revisions to Electric Quarterly Report Filing Process | RM12-3-000
Revised Public Utility Filing Requirements for Electric Quarterly Reports | ER02-2001-000

Take notice that on January 22, 2014, the staff of the Federal Energy Regulatory Commission (Commission) will hold a technical conference on the Revisions to Electric Quarterly Report (EQR) Filing Process. The conference will take place from 10:00 a.m. to 1:00 p.m. (EST), in the Commission Meeting Room at 888 First Street NE., Washington, DC 20426. The public may attend.

Commission staff will demonstrate the new EQR filing system announced in Order No. 770.¹ The new filing system includes two options for filing EQRs: one that will allow EQR users to file through a web interface on the Commission's Web site, and a second that will allow an EQR filer to file its EQR in an Extensible Mark-up Language formatted file. At the conference, staff will demonstrate how to make a filing using both the XML and web interface approaches.

¹ Revisions to Electric Quarterly Report Filing Process, Order No. 770, FERC Stats. & Regs. ¶ 31,338 (2012).

The new EQR filing system is being prepared for deployment and testing logs indicate that users are successfully making filings in the test sandbox. However, in an effort to assure robust testing by users, staff would like to allow the public additional time to test the new system after having the benefit of participating in the January 22, 2013 technical conference. Staff believes that this will allow the public the opportunity to provide any additional feedback before parties are required to file under the new system. For this reason, staff anticipates that the first filings under the new system (for 3Q EQRs) will be due sometime around March 1 through March 30. Further information regarding the 3Q filing deadline will be forthcoming in a subsequent notice.

Any additional information regarding the agenda for the technical conference will be posted prior to the conference on the Calendar of Events on the Commission's Web site, www.ferc.gov.

A free webcast of the conference will be available through www.ferc.gov. Anyone with Internet access interested in viewing this conference can do so by navigating to www.ferc.gov's Calendar of Events and locating this event in the Calendar. The event will contain a link to the webcast. Capitol Connection provides technical support for the webcasts and offers the option of listening to the conferences via phone-bridge for a fee. If you need technical support, please visit www.CapitolConnections.org or call (703) 993-3100.

Teleconferencing will be available. Participants interested in attending via teleconference must register at https://www.ferc.gov/whats-new/registration/eqr-01-22-14-form.asp by close of business on Thursday, January 16, 2014. Teleconferencing may not be available to those who do not register.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conference, please contact: Astrid Kirstin Rapp, Federal Energy Regulatory Commission, 888 First Street NE., Washington, DC 20426, (202) 502-6264, Astrid.Rapp@ferc.gov.

Dated: December 20, 2013.
Kimberly D. Bose,
Secretary.

[FR Doc. 2013-31084 Filed 12-27-13; 8:45 am]

BILLING CODE 6717-01-P